DEPARTMENT OF THE TREASURY

Internal Revenue Service

Proposed Collection; Comment Request

AGENCY: Internal Revenue Service (IRS), Treasury.

ACTION: Notice and request for comments.

SUMMARY: The Department of the Treasury, as part of its continuing effort to reduce paperwork and respondent burden, invites the general public and other Federal agencies to take this opportunity to comment on proposed and/or continuing information collections, as required by the Paperwork Reduction Act of 1995.

DATES: Written comments should be received on or before April 1, 2013 to be assured of consideration.

ADDRESSES: Direct all written comments to Yvette Lawrence, Internal Revenue Service, Room 6129, 1111 Constitution Avenue NW., Washington, DC 20224.

FOR FURTHER INFORMATION CONTACT: Requests for additional information should be directed to Allan Hopkins at Internal Revenue Service, Room 6129, 1111 Constitution Avenue NW., Washington, DC 20224, or at (202) 622-6665, or through the Internet at Allan.M.Hopkins@irs.gov.

SUPPLEMENTARY INFORMATION: OMB Number: 1545-1707.

Title: TD 8957—Estate Tax; Form 706, Extension to File (REG-106511-00, Final).

Abstract: This collection involves regulations relating to the filing of an application for an automatic 6-month extension of time to file an estate tax return (Form 706). The regulations provide guidance to executors of decedents' estates on how to properly file the application for the automatic extension.

Type of Review: Extension of a currently approved collection.

Affected Public: Individuals or Households.

Estimated Number of Annual Respondents: 1.

Estimated Hours per Response: 1.

Estimated Number of Annual Responses: 1.

Estimated Total Annual Burden: 1.

OMB Number: 1545-1696.

Title: Political Organization Report on Contributions and Expenditures.

Form: 8872.

Abstract: Internal Revenue Code section 527(j) requires certain political organizations to report certain contributions received and expenditures made after July 1, 2000. Every section 527 political organization that accepts a contribution or makes an expenditure for an exempt function during the calendar year must file Form 8872, except for a political organization that is not required to file Form 8871, or a state or local committee of a political party or political committee of a state or local candidate.

Type of Review: Extension of a currently approved collection.

Affected Public: Private Sector: Not-for-profit institutions.

Estimated Number of Annual Respondents: 10,000.

Estimated Hours per Response: 4.

Estimated Number of Annual Responses: 40,000.

Estimated Total Annual Burden: 431,200.

The following paragraph applies to all of the collections of information covered by this notice: An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request For Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: January 24, 2013.
Dawn D. Wolfgang,
Treasury PRA Clearance Officer.

[FR Doc. 2013-01846 Filed 1-28-13; 8:45 am]

BILLING CODE 4830-01-P